DEPARTMENT OF THE INTERIOR

Bureau of Indian Affairs

Notice of Cancellation of the Environmental Impact Statement for the Proposed Reconstruction of BIA Route 27 on the Pine Ridge Indian Reservation, SD

AGENCY: Bureau of Indian Affairs, Interior.

ACTION: Notice.

SUMMARY: This notice advises the public that the Bureau of Indian Affairs (BIA) intends to cancel work on the Environmental Impact Statement (EIS) for the proposed reconstruction of BIA Route 27 near Wounded Knee, South Dakota, and instead, prepare an Environmental Assessment for the proposed action. The Notice of Intent to prepare the EIS, which included a description of the proposed action, was published in the Federal Register on August 22, 2005 (70 FR 48972).

DATES: This cancellation is effective December 27, 2006. Written comments must arrive by December 26, 2006.

ADDRESSES: You may mail or hand carry written comments to Marilyn Bercier, Bureau of Indian Affairs, Great Plains Regional Office, 115 4th Avenue SE, Aberdeen, South Dakota 57401.

FOR FURTHER INFORMATION CONTACT: Marilyn Bercier, (605) 226-7656.

SUPPLEMENTARY INFORMATION: The BIA is canceling work on this EIS because scoping and analysis completed to date, including a public scoping meeting held September 13, 2005, in Manderson, South Dakota, and consultation under section 106 of the National Historic Preservation Act and section 7 of the Endangered Species Act, have shown that the proposed action would have no significant impact on the environment. The EIS is therefore being converted to an Environmental Assessment (EA). A Notice of Availability of the Finding of No Significant Impact, which will include information on how to obtain a copy of the EA, will be published and/or posted in the same places (except the Federal Register) as the Notice of Intent to prepare the EIS and will be sent to all parties on any mailing list relating to the EIS process for this project.

Public Comment Availability

Comments, including names and addresses of respondents, will be available for public review at the mailing address shown in the ADDRESSES section during regular business hours, 7:45 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses and from individuals identifying themselves as representatives or officials of organizations or businesses will be made available for public inspection in their entirety.

Authority

This notice is published in accordance with section 1503.1 of the Council on Environmental Quality regulations (40 CFR parts 1500 through 1508) implementing the procedural requirements of the National Environmental Policy Act of 1969, as amended (42 U.S.C. 4321 et seq.), the Department of Interior Manual (516 DM 1-6), and is in the exercise of authority delegated to the Principal Deputy Assistant Secretary—Indian Affairs by 209 DM 8.

Dated: November 3, 2006.
Michael D. Olsen,
Principal Deputy Assistant Secretary—Indian Affairs.

[FR Doc. E6-20153 Filed 11-27-06; 8:45 am]

BILLING CODE 4310-W7-P